DEPARTMENT OF COMMERCE

International Trade Administration

[A-570-983]

Drawn Stainless Steel Sinks From the People's Republic of China: Preliminary Results and Partial Rescission of Antidumping Duty Administrative Review; 2021-2022

AGENCY: Enforcement and Compliance, International Trade Administration, Department of Commerce.

SUMMARY: The U.S. Department of Commerce (Commerce) preliminarily determines that sales of drawn stainless steel sinks (sinks) from the People's Republic of China (China) were made below normal value (NV) during the period of review. Additionally, Commerce is rescinding this review with respect to multiple companies. Interested parties are invited to comment on these preliminary results of review.

DATES: Applicable May 4, 2023.

FOR FURTHER INFORMATION CONTACT: Ajay Menon or Paul Gill, AD/CVD Operations, Office IX, Enforcement and Compliance, International Trade Administration, U.S. Department of Commerce, 1401 Constitution Avenue NW, Washington, DC 20230; telephone: (202) 482-0208 or (202) 482-5673, respectively.

SUPPLEMENTARY INFORMATION:

Background

On June 9, 2022, based on timely requests for review, in accordance with 19 CFR 351.221(c)(1)(i), we initiated an administrative review of the antidumping duty order on sinks from China.¹ On December 5, 2022, we extended the preliminary results of this review to no later than April 28, 2023.² For a complete description of the events that followed the initiation of this review, see the Preliminary Decision Memorandum.³

¹ See Initiation of Antidumping and Countervailing Duty Administrative Reviews, 87 FR 35165 (June 9, 2022).

² See Memorandum, “Drawn Stainless Steel Sinks from the People's Republic of China: Extension of Deadline for Preliminary Results of Antidumping Duty Administrative Review; 2021-2022,” dated December 5, 2022.

³ See Memorandum, “Decision Memorandum for the Preliminary Results of the Antidumping Duty Administrative Review of Drawn Stainless Steel Sinks from the People's Republic of China; 2021-2022,” dated concurrently with, and hereby adopted by, this notice (Preliminary Decision Memorandum).

Scope of the Order ⁴

⁴ See Drawn Stainless Steel Sinks from the People's Republic of China: Amended Final Determination of Sales at Less Than Fair Value and Antidumping Duty Order, 78 FR 21592 (April 11, 2013) (Order).

The products covered by the Order are sinks from China. Imports of subject merchandise are currently classified under the Harmonized Tariff Schedule of the United States (HTSUS) subheadings 7324.10.0000 and 7324.10.0010. Although the HTSUS subheadings are provided for convenience and customs purposes, the written description of the scope of the Order is dispositive.⁵

⁵ For a complete description of the scope of the order, see Preliminary Decision Memorandum.

Partial Rescission of Administrative Review

Pursuant to 19 CFR 351.213(d)(1), Commerce will rescind an administrative review, in whole or in part, if a party who requested the review withdraws the request within 90 days of the date of publication of notice of initiation of the requested review. On September 7, 2022, the petitioner ⁶ timely withdrew its request for an administrative review of the following companies: ⁷ (1) B&R Industries Limited; (2) Feidong Import and Export Co., Ltd.; (3) Foshan Shunde MingHao Kitchen Utensils Co., Ltd.; (4) Foshan Zhaoshun Trade Co., Ltd.; (5) Franke Asia Sourcing Ltd.; (6) Grand Hill Work Company; (7) Guangdong G-Top Import & Export Co., Ltd.; (8) Guangdong New Shichu Import & Export Company Limited; (9) Hangzhou Heng's Industries Co., Ltd.; (10) Hubei Foshan Success Imp & Exp Co. Ltd.; (11) J&C Industries Enterprise Limited; (12) Jiangmen Hongmao Trading Co., Ltd.; (13) Jiangmen New Star Hi-Tech Enterprise Ltd.; (14) Jiangmen Pioneer Import & Export Co., Ltd.; (15) Jiangxi Zoje Kitchen & Bath Industry Co., Ltd.; (16) KaiPing Dawn Plumbing Products, Inc.; (17) Ningbo Afa Kitchen and Bath Co., Ltd./Yuyao Afa Kitchenware Co., Ltd.; (18) Ningbo Oulin Kitchen Utensils Co., Ltd.; (19) Primy Cooperation Limited; (20) Shunde Foodstuffs Import & Export Company Limited of Guangdong; (21) Shunde Native Produce Import and Export Co., Ltd. of Guangdong; (22) Xinhe Stainless Steel Products Co., Ltd.; (23) Zhongshan Newecan Enterprise Development Corporation; (24) Zhongshan Silk Imp. & Exp. Group Co., Ltd. of Guangdong; (25) Zhongshan Superte Kitchenware Co., Ltd.; and (26) Zhuhai Kohler Kitchen & Bathroom Products Co. Ltd. Because no other party requested a review of these companies, we are rescinding the administrative review for these companies in accordance with 19 CFR 351.213(d)(1).

⁶ The petitioner is Elkay Manufacturing Company.

⁷ See Petitioner's Letter, “Partial Withdrawal of Request for Administrative Review” dated September 7, 2022.

Methodology

Commerce is conducting this review in accordance with section 751(a)(1)(B) of Tariff Act of 1930, as amended (the Act). Export price is calculated in accordance with section 772 of the Act. NV is calculated in accordance with section 773 of the Act. For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of the topics discussed in the Preliminary Decision Memorandum is attached as an appendix to this notice.

Preliminary Results of the Review

Because Shenzhen Kehuaxing Industrial Ltd. (Shenzhen Kehuaxing) did not demonstrate that it is entitled to a separate rate, Commerce preliminarily finds this company to be part of the China-wide entity. Because no party requested a review of the China-wide entity, the entity is not under review. Thus, the rate previously established for the China-wide entity, i.e., 76.45 percent,⁸ remains the China-wide entity rate in this review.

⁸ The China-wide rate determined in the investigation was 76.53 percent. See Order, 78 FR at 21594. This rate was adjusted for export subsidies and estimated domestic subsidy pass through to determine the cash deposit rate (i.e., 76.45 percent) collected for companies in the China-wide entity. See explanation in Drawn Stainless Steel Sinks from the People's Republic of China: Investigation, Final Determination, 78 FR 13019 (February 26, 2013) (Final Determination).

We preliminarily determine that the following weighted-average dumping margins exist for the period April 1, 2021, through March 31, 2022, for the mandatory respondents:

Producer or exporter | Weighted- average dumping margin (percent)
Guangdong Dongyuan Kitchenware Industrial Co., Ltd | 9.52
Guangdong Yingao Kitchen Utensils Co., Ltd | 36.53

Assessment Rates

Upon issuing the final results, Commerce shall determine, and U.S. Customs and Border Protection (CBP) shall assess, antidumping duties on all appropriate entries covered by this review.⁹

⁹ See 19 CFR 351.106(c)(2).

For Guangdong Dongyuan Kitchenware Industrial Co., Ltd. (Dongyuan) and Guangdong Yingao Kitchen Utensils Co., Ltd. (Yingao), Commerce calculated importer- (or customer-) specific per-unit duty assessment rates based on the ratio of the total amount of dumping calculated for the importer's (or customer's) examined sales to the total sales quantity associated with those sales, in accordance with 19 CFR 351.212(b)(1). Where either a respondent's weighted-average dumping margin is zero or de minimis within the meaning of 19 CFR 351.106(c)(1), or an importer-specific rate is zero or de minimis, we will instruct CBP to liquidate the appropriate entries without regard to antidumping duties.¹⁰

¹⁰ Id.

For the final results, if we continue to treat Shenzhen Kehuaxing as part of the China-wide entity, we will instruct CBP to apply an ad valorem assessment rate of 76.45 percent to all entries of subject merchandise that were produced and/or exported by Shenzhen Kehuaxing.

In accordance with section 751(a)(2)(C) of the Act, the final results of this review shall be the basis for the assessment of antidumping duties on entries of merchandise covered by the review and for future deposits of estimated antidumping duties, where applicable. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Finally, for the companies for which we are rescinding this administrative review, antidumping duties shall be assessed at rates equal to the cash deposit of estimated antidumping duties required at the time of entry, or withdrawal from warehouse, for consumption, in accordance with 19 CFR 351.212(c)(1)(i). Commerce intends to issue appropriate assessment instructions directly to CBP no earlier than 35 days after the date of publication of this notice in the Federal Register.

Cash Deposit Requirements

The following cash deposit requirements will be effective upon publication of the final results of this administrative review for all shipments of subject merchandise from China entered, or withdrawn from warehouse, for consumption on, or after, the publication date of the final results of review, as provided for by section 751(a)(2)(C) of the Act: (1) for Dongyuan and Yingao, the cash deposit rates will be equal to the weighted-average dumping margins established in the final results of this review (except, if the dumping margin is zero or de minimis, then the cash deposit rate will be zero); (2) for a previously investigated or reviewed exporter of subject merchandise not listed in the final results of review that has a separate rate, the cash deposit rate will continue to be the exporter's existing cash deposit rate; (3) for all Chinese exporters of subject merchandise that do not have a separate rate, the cash deposit rate will be the cash deposit rate established for the China-wide entity, i.e., 76.45 percent; ¹¹ and (4) for all exporters of subject merchandise that are not located in China and that are not eligible for a separate rate, the cash deposit rate will be the rate applicable to the China exporter(s) that supplied that non-Chinese exporter. These deposit requirements, when imposed, shall remain in effect until further notice.

¹¹ See Order, 78 FR 21592, adjusted for export subsidies as outlined in Final Determination, 78 FR 13019.

Disclosure

Commerce intends to disclose the calculations performed in connection with these preliminary results to interested parties within five days after the date of publication of this notice in the Federal Register.¹²

¹² See 19 CFR 351.224(b).

Public Comment

Interested parties may submit case briefs to Commerce no later than seven days after the date of the last verification report issued in this administrative review.¹³ Rebuttal briefs, limited to issues raised in the case briefs, may be filed no later than seven days after the time limit for filing case briefs.¹⁴ Parties who submit case briefs or rebuttal briefs in this proceeding are encouraged to submit with each argument: (1) a statement of the issue; (2) a brief summary of the argument; and (3) a table of authorities.¹⁵ Case and rebuttal briefs should be filed using ACCESS.¹⁶ Note that Commerce has temporarily modified certain of its requirements for serving documents containing business proprietary information, until further notice.¹⁷

¹³ See 19 CFR 351.309(c).

¹⁴ Commerce is exercising its discretion, under 19 CFR 351.309(d)(1), to alter the time limit for filing of rebuttal briefs.

¹⁵ See 19 CFR 351.309(c)(2) and (d)(2).

¹⁶ See 19 CFR 351.303.

¹⁷ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS within 30 days after the date of publication of this notice.¹⁸ Hearing requests should contain: (1) the party's name, address, and telephone number; (2) the number of participants; and (3) a list of issues to be discussed. Oral presentations at the hearing will be limited to issues raised in the briefs. If a request for a hearing is made, parties will be notified of the time and date for the hearing.¹⁹

¹⁸ See 19 CFR 351.310(c).

¹⁹ See 19 CFR 351.310(d).

Verification

As provided in section 782(i)(3) of the Act, Commerce intends to verify the information relied upon for its final results.

Final Results

Commerce intends to issue the final results of this administrative review, including the results of its analysis raised in any written briefs, not later than 120 days after the publication of these preliminary results in the Federal Register, unless otherwise extended.²⁰

²⁰ See section 751(a)(3)(A) of the Act.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results in accordance with sections 751(a)(1) and 777(i)(1) of the Act, 19 CFR 351.213, and 19 CFR 351.221(b)(4).

Dated: April 27, 2023.
Lisa W. Wang,
Assistant Secretary for Enforcement and Compliance.

Appendix

List of Topics Discussed in the Preliminary Decision Memorandum

I. Summary

II. Background

III. Period of Review

IV. Scope of the Order

V. Discussion of the Methodology

VI. Currency Conversion

VII. Recommendation

[FR Doc. 2023-09429 Filed 5-3-23; 8:45 am]

BILLING CODE 3510-DS-P